DEPARTMENT OF THE INTERIOR

Bureau of Land Management

[ID-330-1430-EU-2710; IDI-35095]

Notice of Realty Action; Non-Competitive Sale of Public Land, Custer County, ID

AGENCY: Bureau of Land Management, Interior.

ACTION: Notice of Realty Action.

SUMMARY: The Bureau of Land Management (BLM) has examined and determined that one parcel of public land, 0.75 acres, located in Custer County, Idaho is suitable for disposal by direct (non-competitive) sale to First Fruits Foundation Trust, Christopher James Trustee/Representative, pursuant to Section 203 and 209 of the Federal Land Policy Management Act of 1976, as amended, at no less than the appraised fair market value.

DATES: Interested parties may submit comments to the BLM Challis Field Office Manager, at the below address. Comments must be received by not later than December 11, 2006. Only written comments will be accepted.

ADDRESSES: Address all written comments concerning this Notice to David Rosenkrance, BLM Challis Field Manager, 801 Blue Mountain Rd, Challis Idaho 83226-9304.

FOR FURTHER INFORMATION CONTACT: Tim Vanek, Realty Specialist, at the above address or call: (208) 879-6218.

SUPPLEMENTARY INFORMATION: The following described public land in Custer County, Idaho has been determined to be suitable for sale at not less than fair market value under Section 203 and 209 of the Federal Land Policy Management Act of 1976, as amended (43 U.S.C. 1713 and 1719). It has been determined that this land is difficult to economically manage as part of the public lands. BLM has determined that resource values will not be affected by the disposal of this parcel of public land. The parcel is identified for disposal in the Challis Resource Management Plan (1999). In accordance with 43 CFR 2711.3-3(a)(5), this parcel is being offered by direct (non-competitive) sale to First Fruits Foundation Trust, Christopher James Trustee/representative, based on historic use and value of added improvements. The parcel is fenced, has an improved driveway, entrance gate, maintained lawn, portion of septic field and portion of a garage. Failure or refusal by Christopher James to submit the required fair market appraisal amount within 180 days of the sale of the parcel will constitute a waiver of this preference consideration and this parcel may be offered for sale on a competitive or modified competitive basis.

The parcel is described as follows:

Boise Meridian, Idaho

T. 14 N., R. 18 E.,

Section 35, lot 4

The area described contains 0.75 acres, more or less. The market value for this land, utilizing direct sale procedures, at not less than the current appraised fair market value, is determined to be $2,600.00.

The patent, when issued, will contain a reservation to the United States for ditches and canals under the Act of March 30, 1890. The patent will be made subject to the following existing rights of record:

1. IDI-16458—Those rights for a buried telephone cable granted to Custer Telephone Cooperative Inc., its successors or assigns, pursuant to the Act of October 21, 1976 (43 U.S.C. 1761).

2. IDI 0 08308—Those rights for an overhead 24.9kv power line granted to Salmon River Electric Cooperative Inc., its successors or assigns, pursuant to the Act of February 15, 1901, as amended (formerly 43 U.S.C. 959).

Continued use of the land by valid rights-of-way holders is proper, subject to the terms and conditions of their grants. Administrative responsibility previously held by the United States will be assumed by the patentee.

It has been determined that the subject parcel contains no known mineral values; therefore, mineral interests will be conveyed simultaneously with the surface. A separate non-refundable filing fee of $50.00 is required from the purchaser for the conveyance of the mineral interest.

Upon publication of this notice in the Federal Register, the land described above will be segregated from appropriation under the public land laws, including the general mining laws. The segregation will end upon issuance of patent or 270 days from the date of publication, whichever occurs first.

The land will not be offered for sale until at least 60 days after the date of publication of this notice in the Federal Register.

Comments must be received by the BLM Challis Field Manager, Idaho Falls District Office, at the address stated above, on or before the date stated above. Any adverse comments will be reviewed by the Idaho Falls District Manager, who may sustain, vacate or modify this realty action. In the absence of any objections, or adverse comments, this proposed realty action will become the final determination of the Department of the Interior.

Dated: September 21, 2006.
Joe Kraayenbrink,
District Manager, Idaho Falls District.

[FR Doc. E6-18008 Filed 10-26-06; 8:45 am]

BILLING CODE 4310-GG-P